ENVIRONMENTAL PROTECTION AGENCY

40 CFR Part 141

[FRL 7398-4]

RIN 2040-AD81

Unregulated Contaminant Monitoring Regulation; Approval of Analytical Method for Aeromonas; National Primary and Secondary Drinking Water Regulations: Approval of Analytical Methods for Chemical and Microbiological Contaminants

Correction

In rule document 02-27133 beginning on page 65888 in the issue of Tuesday, October 29, 2002, make the following corrections:

§141.23 [Corrected]

1. On page 65897, in §141.23(a)(4)(i), in the table, under the heading “Methodology”, in the sixth entry “ Distillation” was misspelled.

2. On page 65898, in the same section, preceding footnote 3 insert “* * * * *”.

[FR Doc. C2-27133 Filed 11-12-02; 8:45 am]

BILLING CODE 1505-01-D

DEPARTMENT OF THE TREASURY

Fiscal Service

Fee Schedule for the Transfer of U.S. Treasury Book-Entry Securities Held on the National Book-Entry System

Correction

In notice document 02-28117 beginning on page 67895 in the issue of Thursday, November 7, 2002, make the following corrections:

1. On page 67895, in the table, in the column titled “Off-line Surcharge”, in the last entry, “25.05” should read, “25.00”.

2. On the same page, in the same table, in the column titled “Funds Movement Fee”, in the sixth entry, “.25” should read, “.05”.

3. On the same page, in the same table, in the same column, in the last entry, “25” should read, “.05”.

[FR Doc. C2-28117 Filed 11-12-02; 8:45 am]

BILLING CODE 1505-01-D